DEPARTMENT OF ENERGY

Federal Energy Regulatory Commission

[Project No. 4639-033]

Ampersand Christine Falls Hydro, LLC; Notice of Intent To Prepare an Environmental Assessment

On September 29, 2021, Ampersand Christine Falls Hydro, LLC filed an application for a subsequent minor license for the 850-kilowatt Christine Falls Hydroelectric Project (Christine Falls Project or project; FERC No. 4639). The Christine Falls Project is located on the Sacandaga River near the Village of Speculator, Hamilton County, New York.

In accordance with the Commission's regulations, on August 16, 2023, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Christine Falls Project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

The application will be processed according to the following schedule. Revisions to the schedule may be made as appropriate.

Milestone | Target date
Commission issues EA | July 2024 ¹
Comments on EA | August 2024
¹ The Council on Environmental Quality's (CEQ) regulations under 40 CFR 1501.10(b)(1) (2022) require that EAs be completed within 1 year of the federal action agency's decision to prepare an EA. See National Environmental Policy Act, 42 U.S.C. 4321 et seq., as amended by section 107(g)(1)(B)(iii) of the Fiscal Responsibility Act of 2023, Public Law 118-5, 4336a, 137 Stat. 42.

Any questions regarding this notice may be directed to Andy Bernick at (202) 502-8660 or andrew.bernick@ferc.gov.

Dated: November 9, 2023.
Kimberly D. Bose,
Secretary.

[FR Doc. 2023-25396 Filed 11-16-23; 8:45 am]

BILLING CODE 6717-01-P